DEPARTMENT OF COMMERCE

Foreign-Trade Zones Board

[B-02-2021]

Foreign-Trade Zone (FTZ) 114—Peoria, Illinois; Authorization of Limited Production Activity; Rivian Automotive, LLC (Electric Vehicles and Components); Normal, Illinois

On January 8, 2021, Rivian Automotive, LLC submitted a notification of proposed production activity to the FTZ Board for its facilities within FTZ 114, in Normal, Illinois.

The notification was processed in accordance with the regulations of the FTZ Board (15 CFR part 400), including notice in the Federal Register inviting public comment (86 FR 7249, January 27, 2021). On May 10, 2021, the applicant was notified of the FTZ Board's decision that further review of part of the proposed activity is warranted. The FTZ Board authorized the production activity described in the notification on a limited basis, subject to the FTZ Act and the Board's regulations, including Section 400.14, and further subject to a restriction requiring the following foreign-status components be admitted to the zone in privileged foreign status (19 CFR 146.41): Carrying/storage cases of man-made fibers; seat belt webbing; camping tents for pick-up truck beds; floor carpet for vehicles; seat belt assemblies; seat belt adjusters and assemblies; sun visors; sun visor covers, straps, and catches; and, airbags.

Dated: May 10, 2021.
Andrew McGilvray,
Executive Secretary.

[FR Doc. 2021-10126 Filed 5-12-21; 8:45 am]

BILLING CODE 3510-DS-P